DEPARTMENT OF TRANSPORTATION

Federal Aviation Administration

Tenth Meeting: RTCA Special Committee 209: In Joint Session With EUROCAE WG 49: ATCRBS/Mode S Transponder MOPS Maintenance

AGENCY: Federal Aviation Administration (FAA), DOT.

ACTION: Notice of RTCA Special Committee 209: In Joint Session with EUROCAE WG-49 ATCRBS/Mode S Transponder MOPS Maintenance.

SUMMARY: The FAA is issuing this notice to advise the public of a meeting of RTCA Special Committee 209: In Joint Session with EUROCAE WG-49 ATCRBS/Mode S Transponder MOPS Maintenance.

DATES: The meeting will be held June 28-30, 2010 from 9 a.m.-5 p.m. CET.

ADDRESSES: The meeting will be held at the EUROCAE Headquarters, Malakoff, France near Paris Host Contact: Roland Mallwitz, +33-01-40927930, roland.mallwitz@eurocae.net Secretary Contact: Gary Furr 1-609-485-4254, gary.ctr.furr@faa.gov.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 209: In Joint Session with EUROCAE WG-49 ATCRBS/Mode S Transponder MOPS Maintenance meeting. The agenda will include:

• Opening Session (Host and Co-Chairs Welcome, Introductions and Remarks).

• Review and Approval of the Agenda (SC209-WP10-01).

• Discussion of Issues Related to Proposed Changes to DO-181D/ED-73C.

• WP10-02—Comments Related to Proposed Changes to DO-181D.

• WP10-03—Low Power Transponder and Glider Surveillance Avionics.

• WP10-04—Issues Related to the Timeouts of Registers 0816 and 2016.

• Development of the Actual Change Documents for DO-181D and ED-73C.

• Date, Place and Time of any Future Meetings.

• Other Business.

• Adjournment.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on May 25, 2010.
Francisco Estrada C.,
RTCA Advisory Committee.

[FR Doc. 2010-13140 Filed 6-1-10; 8:45 am]

BILLING CODE 4910-13-P